DEPARTMENT OF HEALTH AND HUMAN SERVICES

Centers for Disease Control and Prevention

[30DAY-04-02]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project

Youth Risk Behavior Survey (YRBS) Methodological Study—New—National Center for Chronic Disease Prevention and Health Promotion (NCCDPHP), Centers for Disease Control and Prevention, (CDC). The purpose of this request is to obtain OMB clearance to conduct a methodological study in the Spring of 2002 to assess the contributions of question wording, questionnaire context, and appeals for honesty on prevalence and, thereby, to provide methodological guidance for future surveys, especially surveys of adolescents. In 2000, the Office of the Assistant Secretary for Planning and Evaluation (ASPE) commissioned five expert papers written on the topic “Examining Substance Abuse Data Collection Methodologies.” The papers focused on the YRBS, the National Household Survey of Drug Abuse (NHSDA), and Monitoring the Future (MTF). A consensus among the authors was that disparate results across the studies are most likely a product of methodological differences across the surveys. This YRBS Methodological Study is designed to measure the effect of several critical aspects of the data collection protocol: (1) Question wording, (2) questionnaire context, (3) appeals for honesty, and (4) students' perception of their honesty and accuracy. Approximately 100 students in 40 high schools will be given one of four questionnaires. Elucidation of the impact of these factors on prevalence will assist in reducing response effects and improving the quality of the YRBS data. The total annualized burden for this data collection is 3,040 hours.

Respondents | Number of respondents | Number of responses per respondents | Burden per response (in hrs.)
High school student | 4,000 | 1 | 45/60
School administrators | 80 | 1 | 30/60

Dated: November 16, 2001.
Nancy E. Cheal,
Acting Associate Director for Policy, Planning, and Evaluation, Centers for Disease Control and Prevention.

[FR Doc. 01-29337 Filed 11-23-01; 8:45 am]

BILLING CODE 4163-18-P